DEPARTMENT OF ENERGY

Federal Energy Regulatory Commission

Combined Notice of Filings #1

Take notice that the Commission received the following electric corporate filings:

Docket Numbers: EC22-46-000.

Applicants: AltaGas Brush Energy, Inc., Clarion Energy LLC.

Description: Supplement to March 9, 2022 Application for Authorization Under Section 203 of the Federal Power Act of AltaGas Brush Energy, Inc.

Filed Date: 4/7/22.

Accession Number: 20220407-5185.

Comment Date: 5 p.m. ET 4/18/22.

Docket Numbers: EC22-50-000.

Applicants: AEP Generation Resources Inc.

Description: Application for Authorization Under Section 203 of the Federal Power Act of AEP Generation Resources Inc.

Filed Date: 4/7/22.

Accession Number: 20220407-5241.

Comment Date: 5 p.m. ET 4/28/22.

Docket Numbers: EC22-51-000.

Applicants: Ford County Wind Farm LLC.

Description: Application for Authorization Under Section 203 of the Federal Power Act of Ford County Wind Farm LLC.

Filed Date: 4/8/22.

Accession Number: 20220408-5231.

Comment Date: 5 p.m. ET 4/29/22.

Take notice that the Commission received the following exempt wholesale generator filings:

Docket Numbers: EG22-91-000.

Applicants: Greeley Energy Facility, LLC.

Description: Greeley Energy Facility, LLC submits Notice of Self-Certification of Exempt Wholesale Generator Status.

Filed Date: 4/8/22.

Accession Number: 20220408-5259.

Comment Date: 5 p.m. ET 4/29/22.

Docket Numbers: EG22-92-000.

Applicants: Hallador Power Company, LLC.

Description: Hallador Power Company, LLC submits Notice of Self-Certification of Exempt Wholesale Generator Status.

Filed Date: 4/11/22.

Accession Number: 20220411-5071.

Comment Date: 5 p.m. ET 5/2/22.

Take notice that the Commission received the following electric rate filings:

Docket Numbers: ER19-1527-001.

Applicants: SmartestEnergy US LLC.

Description: Triennial Market Power Analysis Northeast Region of SmartestEnergy US LLC.

Filed Date: 4/8/22.

Accession Number: 20220408-5236.

Comment Date: 5 p.m. ET 6/7/22.

Docket Numbers: ER20-1720-007.

Applicants: Southern California Edison Company.

Description: Compliance filing: Refile Order 864 ADIT Compliance Filing to be effective 1/27/2020.

Filed Date: 4/11/22.

Accession Number: 20220411-5096.

Comment Date: 5 p.m. ET 5/2/22.

Docket Numbers: ER22-495-001.

Applicants: Midcontinent Independent System Operator, Inc.

Description: Tariff Amendment: 2022-04-08_Deficiency Reponse to Seasonal Construct and Availability to be effective 9/1/2022.

Filed Date: 4/8/22.

Accession Number: 20220408-5195.

Comment Date: 5 p.m. ET 4/29/22.

Docket Numbers: ER22-965-001.

Applicants: Covanta Delaware Valley, L.P.

Description: Tariff Amendment: Response to Deficiency Notice to be effective 3/1/2022.

Filed Date: 4/11/22.

Accession Number: 20220411-5134.

Comment Date: 5 p.m. ET 5/2/22.

Docket Numbers: ER22-966-001.

Applicants: Covanta Essex Company.

Description: Tariff Amendment: Response to Deficiency Notice to be effective 3/1/2022.

Filed Date: 4/11/22.

Accession Number: 20220411-5136.

Comment Date: 5 p.m. ET 5/2/22.

Docket Numbers: ER22-967-001.

Applicants: Covanta Fairfax, LLC.

Description: Tariff Amendment: Response to Deficiency Notice to be effective 3/1/2022.

Filed Date: 4/11/22.

Accession Number: 20220411-5138.

Comment Date: 5 p.m. ET 5/2/22.

Docket Numbers: ER22-968-001.

Applicants: Covanta Plymouth Renewable Energy, LLC.

Description: Tariff Amendment: Response to Deficiency Notice to be effective 3/1/2022.

Filed Date: 4/11/22.

Accession Number: 20220411-5141.

Comment Date: 5 p.m. ET 5/2/22.

Docket Numbers: ER22-1606-000.

Applicants: PPL Electric Utilities Corporation, PJM Interconnection, L.L.C.

Description: § 205(d) Rate Filing: PPL Electric Utilities Corporation submits tariff filing per 35.13(a)(2)(iii): PJM TOs revisions to OATT, Schedule 12 regarding DFAX Methodology to be effective 6/11/2022.

Filed Date: 4/11/22.

Accession Number: 20220411-5100.

Comment Date: 5 p.m. ET 5/2/22.

Docket Numbers: ER22-1607-000.

Applicants: PJM Interconnection, L.L.C.

Description: § 205(d) Rate Filing: Amendment to ISA, SA No. 5869; Queue No. AE2-126 (amend) to be effective 12/3/2020.

Filed Date: 4/11/22.

Accession Number: 20220411-5104.

Comment Date: 5 p.m. ET 5/2/22.

Docket Numbers: ER22-1608-000.

Applicants: Hallador Power Company, LLC.

Description: Baseline eTariff Filing: Baseline new to be effective 6/3/2022.

Filed Date: 4/11/22.

Accession Number: 20220411-5116.

Comment Date: 5 p.m. ET 5/2/22.

Docket Numbers: ER22-1609-000.

Applicants: PJM Interconnection, L.L.C.

Description: Tariff Amendment: Notice of Cancellation of ISA, SA No. 3322; X2-011 to be effective 6/11/2022.

Filed Date: 4/11/22.

Accession Number: 20220411-5131.

Comment Date: 5 p.m. ET 5/2/22.

Take notice that the Commission received the following electric securities filings:

Docket Numbers: ES22-34-000.

Applicants: Louisville Gas and Electric Company.

Description: Application Under Section 204 of the Federal Power Act for Authorization to Issue Securities of Louisville Gas and Electric Company.

Filed Date: 4/7/22.

Accession Number: 20220407-5238.

Comment Date: 5 p.m. ET 4/28/22.

Docket Numbers: ES22-35-000.

Applicants: Kentucky Utilities Company.

Description: Application Under Section 204 of the Federal Power Act for Authorization to Issue Securities of Kentucky Utilities Company.

Filed Date: 4/7/22.

Accession Number: 20220407-5239.

Comment Date: 5 p.m. ET 4/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2022.
Debbie-Anne A. Reese,
Deputy Secretary.

[FR Doc. 2022-08127 Filed 4-14-22; 8:45 am]

BILLING CODE 6717-01-P